DEPARTMENT OF COMMERCE

Economic Development Administration

Proposed Information Collection; Comment Request; Comprehensive Economic Development Strategy

AGENCY: Economic Development Administration (EDA), Department of Commerce.

ACTION: Notice.

SUMMARY: The Department of Commerce, as part of its continuing effort to reduce paperwork and respondent burden, invites the general public and other Federal agencies to take this opportunity to comment on proposed and/or continuing information collections, as required by the Paperwork Reduction Act of 1995, as amended.

DATES: Written comments must be submitted on or before May 29, 2012.

ADDRESSES: Direct all written comments to Jennifer Jessup, Departmental Paperwork Clearance Officer, Department of Commerce, Room 6616, 14th Street and Constitution Avenue NW., Washington, DC 20230 (or via the Internet at JJessup@doc.gov).

FOR FURTHER INFORMATION CONTACT: Requests for additional information or copies of the information collection instrument and instructions should be directed to John Cobb, Program Analyst, Office of Regional Affairs, Room 7009, Economic Development Administration, Washington, DC 20230, telephone (202) 482-0951, facsimile (202) 482-2838 (or via the Internet at John.f.cobb@eda.gov).

SUPPLEMENTARY INFORMATION:

I. Abstract

The mission of the Economic Development Administration (EDA) is to lead the Federal economic agenda by promoting innovation and competitiveness, preparing American regions for growth and success in the worldwide economy. In order to effectively administer and monitor its economic development assistance programs, EDA collects certain information from applications for, and recipients of, EDA investment assistance. This 60-day Federal Register Notice covers: Comprehensive Economic Development Strategy.

A Comprehensive Economic Development Strategy (CEDS) is required to qualify for EDA investment assistance under its Public Works, Economic Adjustment, and most planning programs, and is a prerequisite for a region's designation by EDA as an Economic Development District (see 13 CFR 303, 305.2, and 307.2 of EDA's regulations). This collection of information is required to ensure that the recipient is complying with EDA's CEDS requirement.

II. Method of Collection

Paper and electronic submissions.

III. Data

OMB Control Number: 0610-0093.

Form Number(s): None.

Type of Review: Regular submission.

Affected Public: Not-for-profit institutions; Federal government; State, local, or tribal government; Business or other for-profit organizations.

Estimated Number of Annual Responses: 552.

Estimated Time per Response: 480 hours for the initial CEDS for a District organization or other planning organization funded by EDA; 160 hours for the CEDS revision required at least every 5 years from an EDA-funded District or other planning organization; 40 hours for the annual updated CEDS performance report required of EDA-funded District or other planning organizations; 40 hours per applicant for EDA Public Works or Economic Adjustment assistance with a project deemed by EDA to `merit further consideration' that is not located in an EDA-funded District.

Estimated Total Annual Burden Hours: 31,295.

Estimated Total Annual Cost: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 27, 2012.
Glenna Mickelson,
Management Analyst, Office of the Chief Information Officer.

[FR Doc. 2012-7647 Filed 3-29-12; 8:45 am]

BILLING CODE 3510-34-P